DEPARTMENT OF HOMELAND SECURITY

Coast Guard

33 CFR Part 165

[Docket No. USCG-2019-0210]

Safety Zones; Annual Events Requiring Safety Zones in the Captain of the Port Lake Michigan Zone—Start of the Chicago to Mackinac Race

AGENCY: Coast Guard, DHS.

ACTION: Notice of enforcement of regulation.

SUMMARY: The Coast Guard will enforce the safety zone for the Start of the Chicago to Mackinac Race on a portion of Lake Michigan on July 13, 2019. This action is intended to protect the safety of life and property on the navigable waterway immediately before, during, and after this event. During the enforcement period listed below, entry into, transiting, or anchoring within the safety zone is prohibited unless authorized by the Captain of the Port Lake Michigan or a designated representative.

DATES: The regulations in 33 Code of Federal Regulations (CFR) 165.929 will be enforced for the location listed in item (e)(45) in Table 165.929 from 11:30 a.m. to 3 p.m. on July 13, 2019.

FOR FURTHER INFORMATION CONTACT: If you have questions about this notice of enforcement, call or email LT John Ramos, Waterways Management Division, Marine Safety Unit Chicago, telephone 630-986-2155, email address D09-DG-MSUChicago-Waterways@uscg.mil.

SUPPLEMENTARY INFORMATION: The Coast Guard will enforce the Safety Zone; Start of the Chicago to Mackinac Race listed as item (e)(45) in Table 165.929 of 33 CFR 165.929. Section 165.929 lists many annual events requiring safety zones in the Captain of the Port Lake Michigan zone. This safety zone encompasses all waters of Lake Michigan in the vicinity of the Chicago Harbor Entrance at Chicago IL, within a rectangle that is bounded by a line drawn from 41°53.251 N, 087°35.393 W then East to 41°53.251 N, 087°34.352 W then South to 41°52.459 N, 087°34.364 W then West to 41°52.459 N, 087°35.393 W then North back to the point of origin. This safety zone will be enforced on July 13, 2019, from 11:30 a.m. to 3 p.m.

All vessels must obtain permission from the Captain of the Port Lake Michigan, or his designated on-scene representative to enter, move within, or exit this safety zone during the enforcement times listed in this notice of enforcement. Requests must be made in advance and approved by the Captain of the Port before transits will be authorized. Approvals will be granted on a case-by-case basis. Vessels and persons granted permission to enter the safety zone shall obey all lawful orders or directions of the Captain of the Port Lake Michigan, or his on-scene representative.

This notice of enforcement is issued under authority of 33 CFR 165.929, Safety Zones, Annual events requiring safety zones in the Captain of the Port Lake Michigan zone, and 5 U.S.C. 552 (a). In addition to this notice of enforcement in the Federal Register, the Captain of the Port Lake Michigan will provide the maritime community with advance notification of this safety zone enforcement period via Broadcast Notice to Mariners and Local Notice to Mariners. The Captain of the Port Lake Michigan or a designated on-scene representative may be contacted via VHF Channel 16 or (414) 747-7182.

Dated: April 15, 2019.
Thomas J. Stuhlreyer,
Captain, U.S. Coast Guard, Captain of the Port Lake Michigan.

[FR Doc. 2019-07820 Filed 4-17-19; 8:45 am]

BILLING CODE 9110-04-P